FEDERAL HOUSING FINANCE BOARD

[No. 2007-N-10]

Federal Home Loan Bank Members Selected for Community Support Review

AGENCY: Federal Housing Finance Board.

ACTION: Notice.

SUMMARY: The Federal Housing Finance Board (Finance Board) is announcing the Federal Home Loan Bank (Bank) members it has selected for the 2006-07 sixth quarter review cycle under the Finance Board's community support requirements regulation. This notice also prescribes the deadline by which Bank members selected for review must submit Community Support Statements to the Finance Board.

DATES: Bank members selected for the review cycle under the Finance Board's community support requirements regulation must submit completed Community Support Statements to the Finance Board on or before August 31, 2007.

ADDRESSES: Bank members selected for the 2006-07 sixth quarter review cycle under the Finance Board's community support requirements regulation must submit completed Community Support Statements to the Finance Board either by regular mail at the Federal Housing Finance Board, Office of Supervision, Community Investment and Affordable Housing, 1625 Eye Street, NW., Washington, DC 20006, or by electronic mail at FITZGERALDE@FHFB.GOV.

FOR FURTHER INFORMATION CONTACT: Emma J. Fitzgerald, Program Analyst, Office of Supervision, Community Investment and Affordable Housing, by telephone at 202/408-2874, by electronic mail at FITZGERALDE@FHFB.GOV, or by regular mail at the Federal Housing Finance Board, 1625 Eye Street, NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the August 31, 2007 deadline prescribed in this notice. 12 CFR 944.2(b)(1)(ii) and (c). On or before July 27, 2007, each Bank will notify the members in its district that have been selected for the 2006-07 sixth quarter community support review cycle that they must complete and submit to the Finance Board by the deadline a Community Support Statement. 12 CFR 944.2(b)(2)(i). The member's Bank will provide a blank Community Support Statement Form, which also is available on the Finance Board's Web site: http://www.fhfb.gov. Upon request, the member's Bank also will provide assistance in completing the Community Support Statement.

The Finance Board has selected the following members for the 2006-07 sixth quarter community support review cycle:

Member | City | State
Federal Home Loan Bank of Boston—District 1
Charter Oak Federal Credit Union | Groton | Connecticut
Salisbury Bank and Trust Company | Lakeville | Connecticut
Chelsea Groton Savings Bank | Norwich | Connecticut
Rockville Bank | Rockville | Connecticut
Thomaston Savings Bank | Thomaston | Connecticut
The Wilton Bank | Wilton | Connecticut
Kennebec Savings Bank | Augusta | Maine
Bath Savings Institution | Bath | Maine
Maine Savings Federal Credit Union | Hampden | Maine
Androscoggin Savings Bank | Lewiston | Maine
Saco & Biddeford Savings Institution | Saco | Maine
Sanford Institution for Savings | Sanford | Maine
The Community Bank | Brockton | Massachusetts
Chicopee Savings Bank | Chicopee | Massachusetts
Weymouth Bank | East Weymouth | Massachusetts
Easthampton Savings Bank | Easthampton | Massachusetts
Dukes County Savings Bank | Edgartown | Massachusetts
Bank of Fall River, A Co-operative Bank | Fall River | Massachusetts
Gloucester Cooperative Bank | Gloucester | Massachusetts
Hudson Savings Bank | Hudson | Massachusetts
Hyde Park Cooperative Bank | Hyde Park | Massachusetts
Lee Bank | Lee | Massachusetts
The Washington Savings Bank | Lowell | Massachusetts
Eastern Bank | Lynn | Massachusetts
Community Credit Union of Lynn | Lynn | Massachusetts
Strata Bank | Medway | Massachusetts
Middlesex Savings Bank | Natick | Massachusetts
Newburyport Five Cents Savings Bank | Newburyport | Massachusetts
North Easton Savings Bank | North Easton | Massachusetts
Seamen's Bank | Provincetown | Massachusetts
Granite Savings Bank | Rockport | Massachusetts
The Cooperative Bank | Roslindale | Massachusetts
Randolph Savings Bank | Stoughton | Massachusetts
The Savings Bank | Wakefield | Massachusetts
Walpole Co-operative Bank | Walpole | Massachusetts
Watertown Savings Bank | Watertown | Massachusetts
Northern Bank & Trust Company | Woburn | Massachusetts
First Colebrook Bank | Colebrook | New Hampshire
Merrimack County Savings Bank | Concord | New Hampshire
Laconia Savings Bank | Laconia | New Hampshire
Federal Home Loan Bank of New York—District 2
Skylands Community Bank | Hackettstown | New Jersey
Haddon Savings Bank | Haddon Heights | New Jersey
Gibraltar Savings Bank, FSB | Newark | New Jersey
New Community Federal | Newark | New Jersey
Merrill Lynch Trust Company, FSB | Princeton | New Jersey
R&I Bank | Rahway | New Jersey
Manufacturers and Traders Trust Company | Buffalo | New York
The Bank of Greene County | Catskill | New York
Bank of Richmondville | Cobleskill | New York
Fairport Savings Bank | Fairport | New York
Trustco Bank | Glenville | New York
Highland Falls FS&LA | Highland Falls | New York
Steuben Trust Company | Hornell | New York
Ulster Savings Bank | Kingston | New York
Suffolk Federal Credit Union | Medford | New York
Walden Savings Bank | Montgomery | New York
Atlantic Bank of New York | New York | New York
Habib American Bank | New York | New York
Sterling National Bank | New York | New York
Rome Savings Bank Rome | New York | New York
Sleepy Hollow Bank | Sleepy Hollow | New York
Solvay Bank | Solvay | New York
Champlain National Bank | Willsboro | New York
Banco Popular de Puerto Rico | San Juan | Puerto Rico
Federal Home Loan Bank of Pittsburgh—District 3
Enterprise Bank | Allison Park | Pennsylvania
Apollo Trust Company | Apollo | Pennsylvania
Farmers and Merchants Trust Company | Chambersburg | Pennsylvania
Cambria County Federal Savings & Loan Association | Cresson | Pennsylvania
Portage National Bank | Ebensburg | Pennsylvania
Elderton State Bank | Elderton | Pennsylvania
East Penn Bank | Emmaus | Pennsylvania
First National Bank of Fredericksburg | Fredericksburg | Pennsylvania
The Gratz National Bank | Gratz | Pennsylvania
Harleysville National Bank & Trust Company | Harleysville | Pennsylvania
Irwin Bank | Irwin | Pennsylvania
The Farmers National Bank of Kittanning | Kittanning | Pennsylvania
The Bank of Landisburg | Landisburg | Pennsylvania
First National Bank of Liverpool | Liverpool | Pennsylvania
The Mars National Bank | Mars | Pennsylvania
The Union National Bank of Mount Carmel | Mt. Carmel | Pennsylvania
New Tripoli Bank | New Tripoli | Pennsylvania
Reliance Standard Life Insurance Company | Philadelphia | Pennsylvania
St. Edmond's Federal Savings Bank | Philadelphia | Pennsylvania
Police & Fire Federal Credit Union | Philadelphia | Pennsylvania
Phoenixville Federal Bank and Trust | Phoenixville | Pennsylvania
Orrstown Bank | Shippensburg | Pennsylvania
Jersey Shore State Bank | Williamsport | Pennsylvania
PeoplesBank, a Codurus Valley Company | York | Pennsylvania
First Exchange Bank | Mannington | West Virginia
FNB Bank, Inc. | Romney | West Virginia
Ameribank | Welch | West Virginia
Federal Home Loan Bank of Atlanta—District 4
AuburnBank | Auburn | Alabama
SOUTHBank, A Federal Savings Bank | Huntsville | Alabama
First Commercial Bank of Huntsville | Huntsville | Alabama
Peachtree Bank | Maplesville | Alabama
The North Jackson Bank | Stevenson | Alabama
Riverside National Bank | Fort Pierce | Florida
Peoples State Bank | Lake City | Florida
The Bank of Brevard | Melbourne | Florida
The First National Bank of Florida | Milton | Florida
The Bank of Tampa | Tampa | Florida
First Commercial Bank of Tampa Bay | Tampa | Florida
Indian River National Bank | Vero Beach | Florida
HeritageBank of the South | Albany | Georgia
First American Bank and Trust Company | Athens | Georgia
Bank of Atlanta | Atlanta | Georgia
ebank | Atlanta | Georgia
United Community Bank | Blairsville | Georgia
First State Bank of Randolph County | Cuthbert | Georgia
First Intercontinental Bank | Doraville | Georgia
Glennville Bank | Glennville | Georgia
Farmers and Merchants Bank | Lakeland | Georgia
Security Bank of Bibb County | Macon | Georgia
Southwest Georgia Bank | Moultrie | Georgia
The Carver State Bank | Savannah | Georgia
The First State Bank | Stockbridge | Georgia
Bank of Upson | Thomaston | Georgia
Thomasville National Bank | Thomasville | Georgia
Kopernik Federal Bank | Baltimore | Maryland
Liberty Federal Savings and Loan Association | Baltimore | Maryland
Bradford Bank | Baltimore | Maryland
Slavie Federal Savings Bank | Bel Air | Maryland
Mercantile Eastern Shore Bank | Chestertown | Maryland
Chesapeake Bank and Trust Company | Chestertown | Maryland
Hagerstown Trust Company | Hagerstown | Maryland
Lafayette Federal Credit Union | Kensington | Maryland
First United Bank & Trust | Oakland | Maryland
NBRS Financial | Rising Sun | Maryland
Bank of Stanly | Albemarle | North Carolina
Home Savings Bank of Albemarle, SSB | Albemarle | North Carolina
Self-Help Credit Union | Durham | North Carolina
Farmers & Merchants Bank | Salisbury | North Carolina
First National Bank of Shelby | Shelby | North Carolina
Farmers and Merchants Bank | Holly Hill | South Carolina
E*Trade Bank | Arlington | Virginia
Northern Neck State Bank | Bowling Green | Virginia
American National Bank and Trust Company | Danville | Virginia
The Bank of Fincastle | Fincastle | Virginia
Marshall National Bank and Trust Company | Marshall | Virginia
The Middleburg Bank | Middleburg | Virginia
First Sentinel Bank | Richlands | Virginia
First Bank | Strasburg | Virginia
Federal Home Loan Bank of Cincinnati—District 5
Bedford Loan and Deposit Bank | Bedford | Kentucky
South Central Bank of Bowling Green, Inc. | Bowling Green | Kentucky
Meade County Bank | Brandenburg | Kentucky
Campbellsville National Bank | Campbellsville | Kentucky
The First National Bank of Columbia | Columbia | Kentucky
Edmonton State Bank | Edmonton | Kentucky
First Security Bank & Trust, | McLean Island | Kentucky
The Lawrenceburg National Bank | Lawrenceburg | Kentucky
The Farmers National Bank of Lebanon | Lebanon | Kentucky
Liberty Alliance Federal Credit Union | Lexington | Kentucky
Bank of McCreary County | Whitley City | Kentucky
Williamsburg National Bank | Williamsburg | Kentucky
FirstMerit Bank, N.A. | Akron | Ohio
Bethel Building and Loan Company | Bethel | Ohio
The Citizens National Bank of Bluffton | Bluffton | Ohio
The Equitable Savings and Loan Company | Cadiz | Ohio
CinFed Employees Federal Credit Union | Cincinnati | Ohio
The Mt. Washington Savings and Loan Company | Cincinnati | Ohio
Charter One Bank, N.A. | Cleveland | Ohio
Community First Bank, National Association | Forest | Ohio
First Ohio Credit Union, Incorporated | Fostoria | Ohio
Galion Building and Loan Association | Galion | Ohio
Second National Bank | Greenville | Ohio
Greenville National Bank | Greenville | Ohio
Lawrence Federal Savings Bank | Ironton | Ohio
The First Bremen Bank | Lancaster | Ohio
First Federal Savings and Loan Association of Lorain | Lorain | Ohio
The New Richmond National Bank | New Richmond | Ohio
Geauga Savings Bank | Newbury | Ohio
Ripley Federal Savings Bank | Ripley | Ohio
Strasburg Savings Bank | Strasburg | Ohio
Toledo Area Catholic Credit Union | Sylvania | Ohio
The Peoples Savings Bank | Urbana | Ohio
First Federal Savings and Loan Association of Van Wert | Van Wert | Ohio
Perpetual Savings Bank | Wellsville | Ohio
People's Community Bank | West Chester | Ohio
Century National Bank | Zanesville | Ohio
The Citizens National Bank of Athens | Athens | Tennessee
Tennessee Valley Federal Credit Union | Chattanooga | Tennessee
Bank of Putnam County | Cookeville | Tennessee
First Federal Bank | Dickson | Tennessee
Carter County Bank | Elizabethton | Tennessee
Gates Banking & Trust Company | Gates | Tennessee
Bank of Gleason | Gleason | Tennessee
Greene County Bank | Greeneville | Tennessee
Bank of Halls | Halls | Tennessee
Commercial Bank | Harrogate | Tennessee
Union Bank | Jamestown | Tennessee
Bank of Tennessee | Kingsport | Tennessee
First Bank | Lexington | Tennessee
The Bank of Milan | Milan | Tennessee
Citizens Bank | New Tazewell | Tennessee
Commercial Bank & Trust Company | Paris | Tennessee
Tennessee State Bank | Pigeon Forge | Tennessee
The Farmers Bank | Portland | Tennessee
Central Bank | Savannah | Tennessee
First Community Bank of Bedford County | Shelbyville | Tennessee
Farmers & Merchants Bank | Trezevant | Tennessee
American City Bank | Tullahoma | Tennessee
Reelfoot Bank | Union City | Tennessee
Federal Home Loan Bank of Indianapolis—District 6
The New Washington State Bank | Charlestown | Indiana
First National Bank | Cloverdale | Indiana
CSB State Bank | Cynthiana | Indiana
Three Rivers Federal Credit Union | Fort Wayne | Indiana
Grabill Bank | Grabill | Indiana
Lafayette Savings Bank | Lafayette | Indiana
Peoples Savings & Loan Association | Monticello | Indiana
American Trust and Savings Bank | Whiting | Indiana
FirstBank—Alma | Alma | Michigan
Signature Bank | Bad Axe | Michigan
Lake—Osceola State Bank | Baldwin | Michigan
Central State Bank | Beulah | Michigan
Eastern Michigan Bank | Croswell | Michigan
State Bank of Ewen | Ewen | Michigan
Oakland Commerce Bank | Farmington Hills | Michigan
Credit Union One | Ferndale | Michigan
Co-op Services Credit Union | Livonia | Michigan
Firstbank | Mount Pleasant | Michigan
First National Bank of Norway | Norway | Michigan
Sterling Bank & Trust, FSB | Southfield | Michigan
United Federal Credit Union | St. Joseph | Michigan
Federal Home Loan Bank of Chicago—District 7
First Community Bank and Trust | Beecher | Illinois
National Bank of Commerce | Berkeley | Illinois
Commonwealth Credit Union | Bourbonnais | Illinois
Integra Bank, N.A. | Bridgeview | Illinois
Marquette Bank | Chicago | llinois
ShoreBank | Chicago | Illinois
The First Commercial Bank | Chicago | Illinois
Resource Bank, N.A. | DeKalb | Illinois
Du Quoin State Bank | Du Quoin | Illinois
First Clover Leaf Bank | Edwardsville | Illinois
Crossroads Bank | Effingham | Illinois
Midwest Bank and Trust Company | Elmwood Park | Illinois
Fisher National Bank | Fisher | Illinois
First State Bank of Forrest | Forrest | Illinois
Midwest Community Bank | Freeport | Illinois
Jacksonville Savings Bank | Jacksonville | Illinois
Union Federal Savings and Loan Association | Kewanee | Illinois
Citizens State Bank | Lena | Illinois
Brickyard Bank | Lincolnwood | Illinois
Citizens National Bank | Macomb | Illinois
First Suburban National Bank | Maywood | Illinois
Morris Building and Loan, s.b. | Morris | Illinois
First National Bank of Nokomis | Nokomis | Illinois
Nokomis Savings Bank | Nokomis | Illinois
First National Bank of Pana | Pana | Illinois
Peoples Bank & Trust | Pana | Illinois
Vermillion Valley Bank | Piper City | Illinois
First State Bank of Red Bud | Red Bud | Illinois
AmeriMark Bank | Villa Park | Illinois
North Shore Trust and Savings | Waukegan | Illinois
Waukegan Savings and Loan, SB | Waukegan | Illinois
Prospect Federal Savings Bank | Worth | Illinois
First Community Bank, Xenia-Flora | Xenia | Illinois
Eagle Valley Bank | Burnesville | Minnesota
Capaha Bank, S.B. | Cape Girardeau | Missouri
American National Bank Fox Cities | Appleton | Wisconsin
State Bank of Arcadia | Arcadia | Wisconsin
First National Bank & Trust | Barron | Wisconsin
Blackhawk State Bank | Beloit | Wisconsin
First National Bank | Berlin | Wisconsin
Bonduel State Bank | Bonduel | Wisconsin
Bank of Cashton | Cashton | Wisconsin
Badger State Bank | Cassville | Wisconsin
State Bank of Chilton | Chilton | Wisconsin
American Bank | Fond du Lac | Wisconsin
Peoples Bank of Wisconsin | Hayward | Wisconsin
Horicon State Bank | Horicon | Wisconsin
Farmers State Bank | Markesan | Wisconsin
Mid Wisconsin Bank | Medford | Wisconsin
Mitchell Bank | Milwaukee | Wisconsin
Lincoln State Bank | Milwaukee | Wisconsin
Bank of Monticello | Monticello | Wisconsin
The Bank of New Glarus | New Glarus | Wisconsin
First National Community Bank | New Richmond | Wisconsin
The River Bank | Osceola | Wisconsin
Bank of Poynette | Poynette | Wisconsin
Johnson Bank | Racine | Wisconsin
Shell Lake State Bank | Shell Lake | Wisconsin
Acuity Bank, SSB | Tomah | Wisconsin
The Equitable Bank, S.S.B. | Wauwatosa | Wisconsin
ALLCO Credit Union | West Allis | Wisconsin
Fortress Bank of Westby | Westby | Wisconsin
Westby Co-op Credit Union | Westby | Wisconsin
Federal Home Loan Bank of Des Moines—District 8
Ackley State Bank | Ackley | Iowa
Exchange State Bank | Adair | Iowa
First State Bank | Belmond | Iowa
Columbus Junction State Bank | Columbus Junction | Iowa
Freedom Security Bank | Coralville | Iowa
Iowa State Savings Bank | Creston | Iowa
Decorah Bank & Trust Company | Decorah | Iowa
AmerUS Life Insurance Company | Des Moines | Iowa
Dupaco Community Credit Union | Dubuque | Iowa
Grundy National Bank | Grundy Center | Iowa
Hartwick State Bank | Hartwick | Iowa
Hiawatha Bank & Trust Company | Hiawatha | Iowa
Community State Bank | Indianaola | Iowa
Green Belt Bank & Trust | Iowa Falls | Iowa
First National Bank | Le Mars | Iowa
First National Bank of Muscatine | Muscatine | Iowa
Security State Bank | New Hampton | Iowa
First National Bank of Sioux Center | Sioux Center | Iowa
The Security National Bank of Sioux City, Iowa | Sioux City | Iowa
Heartland Bank | Somers | Iowa
State Bank | Spencer | Iowa
Farmers Trust and Savings Bank | Spencer | Iowa
First Bank & Trust | Spirit Lake | Iowa
Citizens First National Bank of Storm Lake | Storm Lake | Iowa
West Chester Savings Bank | Washington | Iowa
Community National Bank | Waterloo | Iowa
First National Bank | Waverly | Iowa
Peoples Savings Bank | Wellsburg | Iowa
Farm Bureau Mutual Insurance Company | West Des Moines | Iowa
Farm Bureau Life Insurance Company | West Des Moines | Iowa
Farmers Savings Bank | Wever | Iowa
State Bank | Worthington | Iowa
Community America Credit Union | Kansas City | Kansas
Atwater State Bank | Atwater | Minnesota
First National Bank Brewster | Brewster | Minnesota
City County Federal Credit Union | Brooklyn Center | Minnesota
Peoples Bank of Commerce | Cambridge | Minnesota
First National Bank | Chisholm | Minnesota
Clinton State Bank | Clinton | Minnesota
Eitzen State Bank | Eitzen | Minnesota
Mainstreet Bank | Forest Lake | Minnesota
Citizens State Bank of Glenville | Glenville | Minnesota
Eagle Bank | Glenwood | Minnesota
First Security Bank—Hendricks | Hendricks | Minnesota
Jackson Federal Savings and Loan Association | Jackson | Minnesota
Janesville State Bank | Janesville | Minnesota
Citizens State Bank of Kelliher | Kelliher | Minnesota
Security State Bank of Kenyon | Kenyon | Minnesota
Lake Community Bank | Long Lake | Minnesota
Lake Country State Bank | Long Prairie | Minnesota
Frandsen Bank & Trust | Lonsdale | Minnesota
Bank of Maple Plain | Maple Plain | Minnesota
Citizens Bank of Minnesota | New Ulm | Minnesota
Community National Bank | Northfield | Minnesota
Minnwest Bank Ortonville | Ortonville | Minnesota
First National Bank of Henning | Ottertail | Minnesota
Pine River State Bank | Pine River | Minnesota
First Security Bank—Sanborn | Sanborn | Minnesota
Americana Community Bank | Sleepy Eye | Minnesota
Heritage Bank, National Association | Spicer | Minnesota
Western Bank | St. Paul | Minnesota
Vermillion State Bank | Vermillion | Minnesota
Northern State Bank of Virginia | Virginia | Minnesota
First State Bank of Wabasha | Wabasha | Minnesota
Merchants Bank, NA | Winona | Minnesota
First State Bank of Wyoming | Wyoming | Minnesota
Bank of Zumbrota | Zumbrota | Minnesota
Boone County National Bank | Columbia | Missouri
Commercial Trust Company | Fayette | Missouri
Home Exchange Bank | Jamesport | Missouri
Jefferson Bank of Missouri, Inc. | Jefferson City | Missouri
Central Bank of Kansas City | Kansas City | Missouri
Kearney Trust Company | Kearney | Missouri
Lawson Bank | Lawson | Missouri
United State Bank | Lewistown | Missouri
First State Bank of Purdy | Monett | Missouri
First Missouri State Bank | Poplar Bluff | Missouri
The Seymour Bank | Seymour | Missouri
State Bank of Slater | Slater | Missouri
Metropolitan National Bank | Springfield | Missouri
Webb City Bank | Webb City | Missouri
Heartland State Bank | Edgeley | North Dakota
Bremer Bank, N.A. | Grand Forks | North Dakota
Unison Bank | Jamestown | North Dakota
Northland Financial | Steele | North Dakota
Peoples State Bank | Westhope | North Dakota
Security State Bank | Wishek | North Dakota
Dakota State Bank | Blunt | South Dakota
BankWest, Inc. | Pierre | South Dakota
First Bank of White | White | South Dakota
1st Dakota National Bank | Yankton | South Dakota
Superior Guaranty Insurance Company | Burlington | Vermont
Southwest Bank of St. Louis | Milwaukee | Wisconsin
Federal Home Loan Bank of Dallas—District 9
Sagicor Life Insurance Company | Scottsdale | Arizona
Pinnacle Bank | Bentonville | Arkansas
Bank of Cave City | Cave City | Arkansas
First National Bank of Crossett | Crossett | Arkansas
Simmons First Bank of El Dorado, N.A. | El Dorado | Arkansas
Bank of Arkansas, N.A. | Fayetteville | Arkansas
Greers Ferry Lake State Bank | Heber Springs | Arkansas
Little River Bank | Lepanto | Arkansas
Malvern National Bank | Malvern | Arkansas
Merchants and Planters Bank | Newport | Arkansas
Commercial National Bank of Texas | Texarkana | Arkansas
First Bank of the Delta, N.A. | West Helena | Arkansas
Liberty Bank and Trust Company | Baton Rouge | Louisiana
Kaplan State Bank | Kaplan | Louisiana
Sabine State Bank and Trust Company, Inc. | Many | Louisiana
Exchange Bank and Trust Company | Natchitoches | Louisiana
Sicily Island State Bank | Sicily Island | Louisiana
St. Martin Bank and Trust Company | St. Martinville | Louisiana
Concordia Bank & Trust Company | Vidalia | Louisiana
The Evangeline Bank & Trust Company | Ville Platte | Louisiana
Progressive Bank | Winnsboro | Louisiana
First Security Bank | Batesville | Mississippi
Peoples Bank of Franklin County | Bude | Mississippi
Bank of the South | Crystal Springs | Mississippi
The Commercial Bank | DeKalb | Mississippi
Community Bank of Mississippi | Jackson | Mississippi
Community Bank | Laurel | Mississippi
Century Bank | Lucedale | Mississippi
Great Southern National Bank | Meridian | Mississippi
Newton County Bank | Newton | Mississippi
First National Bank of Oxford | Oxford | Mississippi
The Citizens Bank of Philadelphia | Philadelphia | Mississippi
Renasant Bank | Tupelo | Mississippi
My Bank | Belen | New Mexico
The Carlsbad National Bank | Carlsbad | New Mexico
Western Bank | Lordsburg | New Mexico
Community Bank | Santa Fe | New Mexico
Centinel Bank of Taos | Taos | New Mexico
Amarillo National Bank | Amarillo | Texas
Treaty Oak Bank | Austin | Texas
First National Bank of Bastrop | Bastrop | Texas
Citizens State Bank | Buffalo | Texas
1st Community Bank | Corpus Christi | Texas
National Bank of Daingerfield | Daingerfield | Texas
Equity Bank, SSB | Dallas | Texas
Town North Bank, N.A. | Dallas | Texas
First National Bank | Edinburg | Texas
First National Bank | El Paso | Texas
First National Bank | Fairfield | Texas
First National Bank in Graham | Graham | Texas
First State Bank, Granger | Granger | Texas
First Community Credit Union of Houston | Houston | Texas
First National Bank of Huntsville | Huntsville | Texas
The Laredo National Bank | Laredo | Texas
Randolph-Brooks Federal Credit Union | Live Oak | Texas
First State Bank of Livingston | Livingston | Texas
The First National Bank of Livingston | Livingston | Texas
First State Bank | New Braunfels | Texas
American Bank, N.A. | Waco | Texas
Union Square Federal Credit Union | Wichita Falls | Texas
Federal Home Loan Bank of Topeka—District 10
FirstBank of Arvada | Arvada | Colorado
FirstBank of Aurora | Aurora | Colorado
FirstBank of Douglas County | Castle Rock | Colorado
American National Bank | Denver | Colorado
FirstBank of Lakewood | Lakewood | Colorado
FirstBank of Littleton | Littleton | Colorado
FirstBank of Silverthorne | Silverthorne | Colorado
FirstBank of Wheat Ridge | Wheat Ridge | Colorado
Colorado Community Bank | Yuma | Colorado
The First State Bank of Burlingame | Burlingame | Kansas
The Farmers State Bank | Circleville | Kansas
ESB Financial | Emporia | Kansas
Home State Bank | Erie | Kansas
Union State Bank | Everest | Kansas
First National Bank & Trust Co. in Larned | Larned | Kansas
The Bank | Oberlin | Kansas
First State Bank and Trust | Tonganoxie | Kansas
Security Benefit Life Insurance Company | Topeka | Kansas
Capital City Bank | Topeka | Kansas
Commerce Bank and Trust | Topeka | Kansas
Wellsville Bank | Wellsville | Kansas
Boeing Wichita Credit Union | Wichita | Kansas
First National Bank & Trust of Beatrice | Beatrice | Nebraska
Exchange Bank | Gibbon | Nebraska
First State Bank | Gothenburg | Nebraska
Bank of Nebraska | La Vista | Nebraska
West Gate Bank | Lincoln | Nebraska
Home State Bank | Louisville | Nebraska
Bank of Mead | Mead | Nebraska
Farmers & Merchants Bank | Milford | Nebraska
First State Bank | Scottsbluff | Nebraska
Cattle National Bank & Trust Company | Seward | Nebraska
The First National Bank of Valentine | Valentine | Nebraska
CharterWest National Bank | West Point | Nebraska
Winside State Bank | Winside | Nebraska
AmeriState Bank | Atoka | Oklahoma
ACB Bank | Cherokee | Oklahoma
First Commercial Bank | Edmond | Oklahoma
Grand Savings Bank | Grove | Oklahoma
Weokie Credit Union | Oklahoma City | Oklahoma
American Fidelity Assurance Company | Oklahoma City | Oklahoma
First NB&TC of Weatherford, Inc. | Weatherford | Oklahoma
First National Bank in Wewoka | Wewoka | Oklahoma
Federal Home Loan Bank of San Francisco—District 11
Omni Bank, N.A. | Alhambra | California
Fremont Investment & Loan | Anaheim | California
Bay Federal Credit Union | Capitola | California
First Coastal Bank | El Segundo | California
Farmers & Merchants Bank of Central California | Lodi | California
Center Bank | Los Angeles | California
Nara Bank | Los Angeles | California
Wilshire State Bank | Los Angeles | California
County Bank | Merced | California
Valley Community Bank | Pleasanton | California
Alliance Credit Union | San Jose | California
Silver State Bank | Henderson | Nevada
Security Savings Bank | Las Vegas | Nevada
Federal Home Loan Bank of Seattle—District 12
Honolulu City & County Employees FCU | Honolulu | Hawaii
Rocky Mountain Bank | Billings | Montana
Bank of Bridger | Bridger | Montana
Mountain West Bank, N.A. | Helena | Montana
Three Rivers Bank of Montana | Kalispell | Montana
First National Bank of Lewistown | Lewistown | Montana
Bitterroot Valley Bank | Lolo | Montana
Missoula Federal Credit Union | Missoula | Montana
Western Bank of Wolf Point | Wolf Point | Montana
Rogue Federal Credit Union | Medford | Oregon
First National Bank of Layton | Layton | Utah
Capital Community Bank | Orem | Utah
Trans West Credit Union | Salt Lake City | Utah
Deseret First Credit Union | Salt Lake City | Utah
Anchor Bank | Aberdeen | Washington
The Bank of the Pacific | Aberdeen | Washington
Whatcom Educational Credit Union | Bellingham | Washington
Security State Bank | Centralia | Washington
North Cascades National Bank | Chelan | Washington
Bank of Whitman | Colfax | Washington
Islanders Bank | Friday Harbor | Washington
Community First Bank | Kennewick | Washington
1st Security Bank of Washington | Mountlake Terrace | Washington
NorthStar Bank | Seattle | Washington
Sound Community Bank | Seattle | Washington
Yakima National Bank | Yakima | Washington
Yakima Valley Credit Union | Yakima | Washington
First National Bank of Wyoming | Laramie | Wyoming
Rawlins National Bank | Rawlins | Wyoming
First State Bank | Wheatland | Wyoming

II. Public Comments

To encourage the submission of public comments on the community support performance of Bank members, on or before the July 27, 2007, each Bank will notify its Advisory Council and nonprofit housing developers, community groups, and other interested parties in its district of the members selected for community support review in the 2006-07 sixth quarter review cycle. 12 CFR 944.2(b)(2)(ii). In reviewing a member for community support compliance, the Finance Board will consider any public comments it has received concerning the member. 12 CFR 944.2(d). To ensure consideration by the Finance Board, comments concerning the community support performance of members selected for the 2006-07 sixth quarter review cycle must be delivered to the Finance Board on or before the August 31, 2007 deadline for submission of Community Support Statements.

Dated: June 29, 2007.
Neil R. Crowley,
Acting General Counsel.

[FR Doc. E7-13147 Filed 7-12-07; 8:45 am]

BILLING CODE 6725-01-P